OFFICE OF THE UNITED STATES TRADE REPRESENTATIVE

Request for Comments and Notice of Public Hearing Concerning Market Access in the Free Trade Area of the Americas Negotiations

AGENCY: Office of the United States Trade Representative.

ACTION: Request for comments and notice of public hearing concerning market access and other issues in the Free Trade Area of the Americas negotiations.

SUMMARY: The interagency Trade Policy Staff Committee (TPSC) will convene a public hearing and seeks public comment on the effects of the elimination of tariffs and nontariff barriers to trade and other market liberalization among Free Trade Area of the Americas (FTAA) participating countries and on any other matter relevant to the FTAA agreement.

DATES: Persons wishing to testify orally at the hearing must provide written notification of their intention, as well as their testimony, by August 21, 2002. A hearing will be held in Washington, DC, beginning on September 9, 2002, and will continue as necessary on subsequent days. Written comments are due by noon, September 23, 2002.

ADDRESSES: Submissions by electronic mail:

FR0023@ustr.gov (notice of intent to testify and written testimony);

FR0024@ustr.gov (written comments).

Submissions by facsimile: Gloria Blue, Executive Secretary, Trade Policy Staff Committee, at 202/395-6143.

The public is strongly encouraged to submit documents electronically rather than by facsimile. (See requirements for submissions below.)

FOR FURTHER INFORMATION CONTACT: For procedural questions concerning written comments or participation in the public hearing, contact Gloria Blue, (202) 395-3475. All other questions should be directed to Karen Lezny, Deputy Assistant United States Trade Representative for the Free Trade Area of the Americas, (202) 395-5190, or William Busis, Associate General Counsel, (202) 395-3150.

SUPPLEMENTARY INFORMATION:

1. Background

On December 11, 1994, the 34 democratically-elected leaders in the Western Hemisphere met in Miami, Florida for the first Summit of the Americas. They agreed to conclude negotiations on the Free Trade Area of the Americas by the year 2005, and to achieve concrete progress toward that objective by the end of the 20th century. Since that time, the 34 Western Hemisphere ministers responsible for trade have met on several occasions.

At a meeting in San Jose, Costa Rica in March of 1998, the trade ministers recommended that the Western Hemisphere leaders initiate the negotiations and provided them recommendations on the structure, objectives, principles, and venues of the negotiations. A month later the 34 leaders initiated the Free Trade Area of the Americas negotiations at the Summit of the Americas meeting in Santiago, Chile. The leaders agreed to the general framework proposed by the 34 trade ministers, which included the establishment initially of nine negotiating groups to be guided by general principles and objectives and specific objectives as agreed by the ministers in March 1998.

The work of the negotiating groups began in September 1998. In anticipation of that activity, the TPSC published a notice in the Federal Register requesting public comments (63 FR 128, July 6, 1998) on what should be the U.S. positions and objectives with respect to each of the negotiating groups. This notice also stated that USTR would seek additional public comment separately on other issues related to the FTAA, including the economic effects of the elimination of tariffs and nontariff barriers to trade among FTAA participating countries.

In April 2001, the 34 trade ministers met in Buenos Aires, Argentina and mandated that the market access negotiations be initiated no later than May 15, 2002. The ministers also decided to make public the FTAA preliminary draft consolidated text, which has been posted on the FTAA website at http://www.ftaa-alca.org. The TPSC subsequently issued a notice inviting public comments on the draft text (66 FR 36,614, July 12, 2001).

On April 22, 2001, the 34 leaders at the Summit of the Americas meeting in Quebec City, Quebec confirmed that the negotiation of the FTAA Agreement would conclude no later than January of 2005.

In May of 2002 the Vice-Ministers Responsible for Trade in the FTAA countries established methods and modalities for the market access negotiations. Additional details can be found at http://www.ftaa-alca.org/tn20e.doc. Initial offers on the elimination of tariff, services, investment and government procurement barriers to trade and investment among FTAA participating countries will be presented between December 15, 2002 and February 15, 2003. Requests for improvements to offers will be presented between February 16 and June 15, 2003. The process for exchanging revised offers will be initiated on July 15, 2003. In addition, the parties are in the process of negotiating commitments concerning intellectual property rights.

2. Public Comments and Testimony

As provided in the regulations of the Trade Policy Staff Committee (15 CFR part 2003), the Chairman of the TPSC invites written comments and/or oral testimony of interested parties at a public hearing. Comments and testimony may address the reduction or elimination of tariffs or non-tariff barriers on any articles provided for in the Harmonized Tariff Schedule of the United States (HTSUS) that are products of an FTAA country, any concession which should be sought by the United States, or any other matter relevant to the FTAA. The TPSC invites comments and testimony on all of these matters, and in light of the schedule for presenting market access offers, in particular seeks comments and testimony addressed to:

(a) Economic benefits and costs to U.S. producers and consumers of the elimination of tariffs on trade between the United States and the 33 other FTAA countries, and in the case of articles for which immediate elimination of tariffs is not recommended, the recommended staging schedule for such elimination.

(b) Existing nontariff barriers to trade in goods between United States and the 33 other FTAA countries and the economic benefits and costs of removing those barriers.

(c) Existing barriers to trade in services and government procurement between the United States and the 33 other FTAA countries and the economic benefits and costs of removing such barriers.

(d) Economic benefits and costs to U.S. producers and consumers of strengthening the protection and enforcement of intellectual property rights (IPR) in FTAA countries and improving market access for products subject to IPR protection.

(e) Existing restrictions on investment flows between United States and the 33 other FTAA countries and the economic benefits and costs of eliminating any such restrictions.

Persons who submitted comments pursuant to a previous request for public comments concerning the FTAA should not resubmit those comments in response to this notice.

A hearing will be held on September 9, 2002, in Rooms 1 and 2, 1724 F Street, NW, Washington, DC 20508. If necessary, the hearing will continue on subsequent days.

Persons wishing to testify at the hearing must provide written notification of their intention by August 21, 2002. The notification should include: (1) The name, address, and telephone number of the person presenting the testimony; and (2) a short (one or two paragraph) summary of the presentation, including the subject matter and, as applicable, the product(s) (with HTSUS numbers), service sector(s), or other subjects (such as investment, intellectual property and/or government procurement) to be discussed. A copy of the testimony must accompany the notification. Remarks at the hearing should be limited to no more than five minutes to allow for possible questions from the TPSC. Persons with mobility impairments who will need special assistance in gaining access to the hearing should contact Gloria Blue.

Interested persons, including persons who participate in the hearing, may submit written comments by noon, September 23, 2002. Written comments may include rebuttal points demonstrating errors of fact or analysis not pointed out in the hearing. All written comments must state clearly the position taken, describe with particularity the supporting rationale, and be in English. The first page of written comments must specify the subject matter including, as applicable, the product(s) (with HTSUS numbers) or service sector(s).

3. Requirements for Submissions

In order to facilitate prompt processing of submissions, the Office of the United States Trade Representative strongly urges and prefers electronic (e-mail) submissions in response to this notice. In the event that an e-mail submission is impossible, submissions should be made by facsimile.

Persons making submissions by e-mail should use the following subject line: “Free Trade Area of the Americas” followed by (as appropriate) “Notice of Intent to Testify”, “Testimony”, or “Written Comments.” Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments, notice of testimony, and testimony will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

General information concerning the Office of the United States Trade Representative may be obtained by accessing its Internet server (http://www.ustr.gov).

Carmen Suro-Bredie,
Chairman, Trade Policy Staff Committee.

[FR Doc. 02-19372 Filed 7-26-02; 4:30 pm]

BILLING CODE 3190-01-P